DEPARTMENT OF JUSTICE

Antitrust Division

Notice Pursuant to the National Cooperative Research and Production Act of 1993—National Storage Industry Consortium

Notice is hereby given that, on October 18, 1999, pursuant to section 6(a) of the National Cooperative Research and Production Act of 1993, 15 U.S.C. 4301 et seq. (“the Act”), National Storage Industry Consortium has filed written notifications simultaneously with the Attorney General and the Federal Trade Commission disclosing changes in its membership status. The notifications were filed for the purpose of extending the Act's provisions limiting the recovery of antitrust plaintiffs to actual damages under specified circumstances. Specifically, Advanced Research, Minneapolis, MN; Cirrus Logic, Fremont, CA; ECD, Troy, MI; EMC, Hopkinton, MA; Imation Corporation, Oakdale, MN; Lucent Technologies, Allentown, PA; Maxtor, Milpitas, CA; Minnesota Mining and Manufacturing Company, St. Paul, MN; Polaroid, Cambridge, MA; Silicon Graphics, Mountain View; CA; Siros Technologies, Mountain View, CA; Sun Microsystems, Palo Alto, CA; and Texas Instruments, Dallas, TX have been added as parties to this venture. The following colleges and universities have joined the National Storage Industry Consortium as university associate members: Argonne National Laboratory, Argonne, IL; Harvard University, Cambridge MA; Lawrence Berkeley National Laboratory, Berkeley, CA; Montana State University, Bozeman, MT; University of Akron, OH; University of Alberta, Edmonton, CANADA; University of Idaho, Moscow, ID; and Vanderbilt University, Nashville, TN. Also, Optitek, Inc., Mountain View, CA has been dropped as a party to this venture.

No other changes have been made in either the membership or planned activity of the group research project. Membership in this group research project remains open, and National Storage Industry Consortium intends to file additional written notification disclosing all changes in membership.

On June 12, 1991, National Storage Industry Consortium filed its original notification pursuant to section 6(a) of the Act. The Department of Justice published a notice in the Federal Register pursuant to section 6(b) of the Act on August 13, 1991 (56 FR 38465).

The last notification was filed with the Department on April 15, 1997. A notice was published in the Federal Register pursuant to section 6(b) of the Act on November 10, 1997 (62 FR 60531).

Constance K. Robinson,
Director of Operations, Antitrust Division.

[FR Doc. 00-16001 Filed 6-23-00; 8:45 am]

BILLING CODE 4410-11-M